DEPARTMENT OF HOMELAND SECURITY

National Protection and Programs Directorate; Methodology Technical Implementation Functional Survey

AGENCY: National Protection and Programs Directorate, DHS.

ACTION: 60-Day notice and request for comments; new information collection request, 1670-NEW.

SUMMARY: The Department of Homeland Security, National Protection and Programs Directorate, has submitted the following Information Collection Request (ICR) to the Office of Management and Budget (OMB) for review and clearance in accordance with the Paperwork Reduction Act of 1995 (Pub. L. 104-13, 44 U.S.C. Chapter 35).

DATES: Comments are encouraged and will be accepted until November 13, 2009. This process is conducted in accordance with 5 CFR 1320.1.

ADDRESSES: Written comments and questions about this Information Collection Request should be forwarded to Lisa Hormann, Infrastructure Information Collection Division, DHS/NPPD/IP/IICD, Lisa.hormann@associates.dhs.gov.

SUPPLEMENTARY INFORMATION: The Methodology Technical Implementation (MTI) Project Office supports the 18 critical infrastructure and key resource (CIKR) sectors by integrating risk and vulnerability assessment methodologies into automated tools. MTI efforts address the unique needs and requirements of each sector by working with sector partners to develop tailored solutions that enable the identification, analysis, and management of sector-specific security risks. The MTI team collaborates with Sector-Specific Agencies (SSAs), Sector and Government Coordinating Councils (SCCs and GCCs), and divisions within the Department of Homeland Security's Office of Infrastructure Protection. The MTI team also works with sector specialists, risk analysts, private sector individuals, and Federal agency representatives. Efficient and effective use of the MTI tools helps all CIKR sectors nationwide reach their goal of making their sectors safer and provides a way to comply with recommendations in the National Infrastructure Protection Plan (NIPP). To ensure that interested stakeholders achieve this mission, MTI requests opinions and information from users of the tool regarding tool functions and improvements.

The MTI Project Office is administered out of the Infrastructure Information Collection Division (IICD) in the Office of Infrastructure Protection (IP). The survey data collected is for internal MTI, IICD and IP use only. The MTI Project Office will use the results of the Functional Survey to determine levels of customer satisfaction with the MTI tools and prioritize future improvements of key tool functions. The results will also allow the program to appropriate funds cost-effectively based on user need, and cost savings while improving the tool.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: MTI Functional Survey.

OMB Number: 1670-NEW.

Frequency: Annual.

Affected Public: Business or other for profit.

Number of Respondents: 5,500.

Estimated Time Per Respondent: 15 minutes (.25 hours).

Total Burden Hours: 1375 annual burden hours.

Total Burden Cost (operating/maintaining): $20,520.

Thomas Chase Garwood, III,
Chief Information Officer, National Protection and Programs Directorate, Department of Homeland Security.

[FR Doc. E9-22053 Filed 9-11-09; 8:45 am]

BILLING CODE 9910-9P-P